DEPARTMENT OF ENERGY

Federal Energy Regulatory Commission

Privacy Act of 1974: Notice of New or Altered Systems of Records

AGENCY: Federal Energy Regulatory Commission, DOE.

ACTION: Notice of new or altered systems of records.

SUMMARY: The Federal Energy Regulatory Commission (the Commission), under the requirements of the Privacy Act of 1974, 5 U.S.C. 552a, is publishing a description of new or altered systems of records.

ADDRESSES: Comments should be directed to the following address: Office of the General Counsel, General and Administrative Law Division, Federal Energy Regulatory Commission, 888 First Street NE., Washington, DC 20426.

DATES: The proposed new or revised systems will become effective April 28, 2014 unless further notice is given. The Commission will publish a new notice if the effective date is delayed to review comments or if changes are made based on comments received. To be assured of consideration, comments should be received on or before April 17, 2014.

FOR FURTHER INFORMATION CONTACT: Wilbur Miller, Office of the General Counsel, General and Administrative Law Division, Federal Energy Regulatory Commission, 888 First Street NE., Washington, DC 20426, (202) 502-6030.

SUPPLEMENTARY INFORMATION:

I. Report on the New or Altered Systems

A. Background

The Privacy Act of 1974, 5 U.S.C. 552a, requires that each agency publish a notice of the existence and character of each new or altered “system of records.” 5 U.S.C. 552a(a)(5). This Notice identifies and describes the Commission's new or altered systems of records. A copy of this report has been distributed to the Speaker of the House of Representatives and the President of the Senate as the Act requires.

The Commission has adopted new or altered systems of records under the Privacy Act of 1974. The notice includes for these systems of records the name; location; categories of individuals on whom the records are maintained; categories of records in the system; authority for maintenance of the system; each routine use; the policies and practices governing storage, retrievability, access controls, retention and disposal; the title and business address of the agency official responsible for the system of records; procedures for notification, access and contesting the records of each system; and the sources for the records in the system. 5 U.S.C. 552(a)(4).

B. New or Altered System of Records

FERC-53 Information Technology System Log Records

FERC-58 Critical Energy Infrastructure Information (CEII) Records

FERC-59 Enforcement Investigation Records

FERC-60 Hotline Records

FERC-61 Requests for Commission Publications and Information

FERC-62 Public Information Requests

FERC-63 Company Registration Records

FERC-64 Individual Registration Records

FERC-53

SYSTEM NAME:

Information Technology System Log Records.

SECURITY CLASSIFICATION:

Unclassified.

SYSTEM LOCATION:

Federal Energy Regulatory Commission, Office of the Chief Information Officer, Computer Data Center, 888 First Street NE., Room 1F, Washington, DC 20426.

CATEGORIES OF INDIVIDUALS COVERED BY THE SYSTEM:

All individuals accessing the Commission's applications.

CATEGORIES OF RECORDS IN THE SYSTEM:

Records relating to the use of the Commission's applications, including Information Technology system log files; Internet/Intranet, local area network, and software, system, and email usage.

AUTHORITY FOR MAINTENANCE OF THE SYSTEM:

5 U.S.C. 302.

PURPOSE(S):

To oversee, maintain and troubleshoot problems with information technology resources managed by the Federal Energy Regulatory Commission.

ROUTINE USES OF RECORDS MAINTAINED IN THE SYSTEM, INCLUDING CATEGORIES OF USERS AND THE PURPOSES OF SUCH USES:

To determine hardware or software problems; to maintain inventory; to monitor overall activity and disk space usage; to serve as a data source if the Commission, in carrying out its functions, discovers a violation of law, whether civil, criminal, or regulatory in nature, and whether arising by general statute or particular program statute, or by regulation, rules, or order issued pursuant thereto, the relevant records in the system of records may be referred, as a routine use, to the appropriate agency, whether Federal, State, local, or foreign, charged with the responsibility of investigating or prosecuting such violation or charged with enforcing or implementing the statute, or rule, regulation, or order issued pursuant thereto.

DISCLOSURE TO CONSUMER REPORTING AGENCIES:

None.

POLICIES AND PRACTICES FOR STORING, RETRIEVING, ACCESSING, RETAINING, AND DISPOSING OF RECORDS IN THE SYSTEM:

STORAGE:

Paper and computer files.

RETRIEVABILITY:

User Identification Code.

SAFEGUARDS:

Access and system rights are assigned by the System Administrator to only those employees whose official duties require access. All employees with assigned rights must enter a user identification and a valid password to access the data.

RETENTION AND DISPOSAL:

Records are maintained pursuant to instructions authorized by the National Archives and Records Administration.

SYSTEM MANAGER(S) AND ADDRESS:

Operations Manager, Office of the Chief Information Officer, Federal Energy Regulatory Commission, 888 First Street NE., Room 42-35, Washington, DC 20426.

NOTIFICATION PROCEDURE:

All inquiries and requests relating to this system of records should be addressed to the system manager of the system.

RECORD ACCESS PROCEDURES:

Same as notification procedures above.

CONTESTING RECORD PROCEDURES:

Same as notification procedures above.

RECORD SOURCE CATEGORIES:

Information is automatically captured when accessing an application.

EXEMPTIONS CLAIMED FOR THE SYSTEM:

None.

FERC-58

SYSTEM NAME:

Critical Energy Infrastructure Information (CEII) Records.

SECURITY CLASSIFICATION:

Unclassified.

SYSTEM LOCATION:

Federal Energy Regulatory Commission, Office of the General Counsel, General and Administrative Law Division, 888 First Street NE., Washington, DC 20426.

CATEGORIES OF INDIVIDUALS COVERED BY THE SYSTEM:

Records are maintained on persons who make requests for CEII with the agency.

CATEGORIES OF RECORDS IN THE SYSTEM:

Requesters file a signed, written request with the Commission's CEII Coordinator. The material in the record would contain the following: Requester's name (including any other name(s) which the requester has used and the dates the requester used such name(s)), title, address, and telephone number; the name, address, and telephone number of the person or entity on whose behalf the information is requested; a detailed statement explaining the particular need for and intended use of the information; and a statement as to the requester's willingness to adhere to limitations on the use and disclosure of the information requested. Furthermore, a requester in some instances may provide his or her date and place of birth upon request, if it is determined by the CEII Coordinator that this information is necessary to process the request.

AUTHORITY FOR MAINTENANCE OF THE SYSTEM:

18 CFR 388.113.

PURPOSE(S):

To determine who has been granted access to CEII and determine whether individuals have previously asked for access to CEII.

ROUTINE USES OF RECORDS MAINTAINED IN THE SYSTEM, INCLUDING CATEGORIES OF USERS AND THE PURPOSES OF SUCH USES:

In addition to those disclosures generally permitted under 5 U.S.C. 552a(b), these records or information contained therein may specifically be disclosed as a routine use to determine who has asked for access to CEII and who has received such access.

DISCLOSURE TO CONSUMER REPORTING AGENCIES:

None, except as authorized under 5 U.S.C. 552a(b)(12) when trying to collect a claim of the Government.

POLICIES AND PRACTICES FOR STORING, RETRIEVING, ACCESSING, RETAINING, AND DISPOSING OF RECORDS IN THE SYSTEM:

STORAGE:

Records are maintained in electronic and paper format. Electronic records are stored in computerized databases and/or on computer disc. Paper records and records on computer disc are stored in locked file rooms and/or file cabinets.

RETRIEVABILITY:

The records are retrieved by the names of the individual requester, the name of the company, where applicable, and the case number.

SAFEGUARDS:

Access is restricted to agency personnel or contractors whose responsibilities require access. Paper records are maintained in areas not accessible to the public. Access to electronic records is controlled by “user ID” and password combinations and/or other electronic access or network controls. The building is guarded and monitored by security personnel, cameras, ID checks, and other physical security measures.

RETENTION AND DISPOSAL:

These records will be maintained until they become inactive, at which time they will be retired or destroyed in accordance with records schedules of the Federal Energy Regulatory Commission and as approved by the National Archives and Records Administration.

SYSTEM MANAGER(S) AND ADDRESS:

Office of the General Counsel, General and Administrative Law Division, Federal Energy Regulatory Commission, 888 First Street NE., Washington, DC 20426.

NOTIFICATION PROCEDURE:

Requests from individuals to determine if a system of records contains information about them should be directed to the System Manager.

RECORD ACCESS PROCEDURES:

Same as notification procedure above.

CONTESTING RECORD PROCEDURES:

Same as notification procedure above.

RECORD SOURCE CATEGORIES:

Information in these records is supplied by individuals and companies requesting information along with those commenting on the requests.

EXEMPTIONS CLAIMED FOR THE SYSTEM:

Under 5 U.S.C. 552a(k)(2) this system of records is exempted from the following provisions of the Privacy Act, 5 U.S.C. 552a(c)(3), (d), (e)(1), (e)(4)(G), (H), and (I), and (f).

FERC-59

SYSTEM NAME:

Enforcement Investigation Records.

SECURITY CLASSIFICATION:

Unclassified.

SYSTEM LOCATION:

Federal Energy Regulatory Commission, Office of Enforcement, 888 First Street NE., Washington, DC 20426.

CATEGORIES OF INDIVIDUALS COVERED BY THE SYSTEM:

Records are maintained on persons who have been involved in Commission investigations or litigation, or in activities which violated or may have violated federal laws relating to matters within the Commission's jurisdiction.

CATEGORIES OF RECORDS IN THE SYSTEM:

Records of Commission investigations or litigation relating to actual or potential violations of federal energy laws, regulations, or orders. Records include the names and addresses of persons involved in Commission investigations or litigation; documents and data responses produced by outside persons; internal and external correspondence; internal staff memoranda and notes; nonpublic Commission Orders; subpoenas, affidavits, declarations, transcripts, exhibits, pleadings, computerized records, staff working papers, reports, and miscellaneous other records relating to Commission investigations or litigation.

AUTHORITY FOR MAINTENANCE OF THE SYSTEM:

Federal Power Act, 16 U.S.C. 792 et seq., Natural Gas Act; 15 U.S.C. 717 et seq.; Natural Gas Policy Act; 15 U.S.C. 3301 et seq.; Interstate Commerce Act, 49 U.S.C. 60502; 18 CFR Part 1b; 18 CFR Part 3b.

PURPOSE(S):

To conduct the law enforcement, rulemaking, and advisory responsibilities of the Federal Energy Regulatory Commission; to make determinations based upon the results of those matters; to report results of investigations to other agencies and authorities for their use in evaluating their programs and imposition of criminal, civil, or administrative sanctions; to report the results of investigations to other agencies, regulatory bodies, courts, or to the public as appropriate; and to maintain records of Commission activities related to those matters, including to make such records available within the Federal Energy Regulatory Commission for historical, legal research, investigational, and similar purposes.

ROUTINE USES OF RECORDS MAINTAINED IN THE SYSTEM, INCLUDING CATEGORIES OF USERS AND THE PURPOSES OF SUCH USES:

In addition to those disclosures generally permitted under 5 U.S.C. 552a(b), these records or information contained therein may specifically be disclosed as a routine use:

(1) To members of Congress, or to other federal, state, local, or international government authorities;

(2) to Independent System Operators, Regional Transmission Organization, internal or external Market Monitors, the North American Electric Reliability Corporation, and other nongovernmental agencies, including other reliability organizations;

(3) outside experts, witnesses, consultants, or other persons during the course of any inquiry, examination, or investigation conducted by staff, or in connection with civil litigation, if staff has reason to believe that the person to whom the record is disclosed may have further information about relevant matters;

(4) by FERC personnel for purposes of investigating possible violations of, or to conduct investigations authorized by, the laws that FERC is charged with enforcing;

(5) to federal, state, administrative, or foreign courts, and to the public in or relating to any proceeding in which federal energy laws, regulations, or orders are at issue, or in which the Commission, or past or present members of its staff, is a party or otherwise involved in an official capacity;

(6) to a bar association, or other federal, state, local, or foreign licensing or oversight authority; or professional association or self-regulatory authority to the extent that it performs similar functions for investigations or possible disciplinary action;

(7) to the public in reports published by the Commission or staff concerning enforcement activities, in Notices of Alleged Violations, in Orders to Show Cause, or in any other way directed or authorized by the Commission under 18 CFR 1b.5;

(8) to interns, grantees, experts, contractors, and other who have been engaged by the Commission to assist in the performance of a service related to this system of records and who need access to the records for the purpose of assisting the Commission in the efficient administrative of its programs, including by performing clerical, stenographic, or data analysis functions, or by reproductions of records by electronic or other means. Recipients of these records shall be required to comply with the requirements of the Privacy Act of 1974, as amended, 5 U.S.C. 552a.

(9) to respond to subpoenas in any litigation or other proceeding;

(10) to a trustee in bankruptcy; or

(11) to any government agency, governmental or private collection agent, consumer reporting agency or commercial reporting agency, governmental or private employer of a debtor, or any other person, for collection, including collection by administrative offset, federal salary offset, tax refund offset, or administrative wage garnishment, of amounts owed as a result of Commission civil or administrative proceedings.

DISCLOSURE TO CONSUMER REPORTING AGENCIES:

None, except as authorized under 5 U.S.C. 552a(b)(12) when trying to collect a claim of the Government.

POLICIES AND PRACTICES FOR STORING, RETRIEVING, ACCESSING, RETAINING, AND DISPOSING OF RECORDS IN THE SYSTEM:

STORAGE:

Records are maintained in electronic and paper format. Electronic records are stored in computerized databases and/or on computer disc.

RETRIEVABILITY:

The records are retrieved by the names of companies, individuals, staff members, and by matter numbers under which the investigation is conducted or administrative or judicial litigation is filed.

SAFEGUARDS:

Access is restricted to agency personnel or contractors whose responsibilities require access. Paper records are maintained in areas not accessible to the public. Access to electronic records is controlled by “user ID” and password combinations and/or other electronic access or network controls. The building is guarded and monitored by security personnel, cameras, ID checks, and other physical security measures.

RETENTION AND DISPOSAL:

These records will be maintained until they become inactive, at which time they will be retired or destroyed in accordance with records schedules of the Federal Energy Regulatory Commission and as approved by the National Archives and Records Administration.

SYSTEM MANAGER(S) AND ADDRESS:

Office of Enforcement, Federal Energy Regulatory Commission, 888 First Street NE., Washington, DC 20426.

NOTIFICATION PROCEDURE:

Requests from individuals to determine if a system of records contains information about them should be directed to the System Manager.

RECORD ACCESS PROCEDURES:

Same as notification procedure above.

CONTESTING RECORD PROCEDURES:

Same as notification procedure above.

RECORD SOURCE CATEGORIES:

Information in these records is supplied by individuals, private and public corporations or other entities, other governmental or self-regulatory organizations; public sources; other offices within the Commission; documents, litigation, transcripts of testimony, evidence introduced into court, orders entered by a court, and correspondence relating to litigations; pleadings in administrative proceedings, transcripts of testimony, documents, including evidence entered in such proceedings; and miscellaneous other sources.

EXEMPTIONS CLAIMED FOR THE SYSTEM:

Under 5 U.S.C. 552a(k)(2) and 18 CFR 3b.250, this system of records is exempted from the following provisions of the Privacy Act, 5 U.S.C. 552a(c)(3), (d), (e)(1), (e)(4)(G), (H), and (I), and (f), insofar as it contains investigatory materials compiled for law enforcement purposes.

FERC-60

SYSTEM NAME:

Hotline Records

SECURITY CLASSIFICATION:

Unclassified

SYSTEM LOCATION:

Federal Energy Regulatory Commission, Office of Enforcement, 888 First Street NE., Washington, DC 20426

CATEGORIES OF INDIVIDUALS COVERED BY THE SYSTEM:

Records are maintained on individuals who have contacted the Enforcement Hotline, who have been identified by individual contacting the Hotline, or whose identity is disclosed in the process of responding to a Hotline call, email, or other contact.

CATEGORIES OF RECORDS IN THE SYSTEM:

Database summarizing Hotline contacts and their resolution; emails, internal memoranda, and other documents relating to Hotline contacts.

AUTHORITY FOR MAINTENANCE OF THE SYSTEM:

Federal Power Act, 16 U.S.C. 792 et seq., Natural Gas Act; 15 U.S.C. 717 et seq.; Natural Gas Policy Act; 15 U.S.C. 3301 et seq.; Interstate Commerce Act, 49 U.S.C. 60502; 18 CFR Part 1b; 18 CFR Part 3b.

PURPOSE(S):

To operate the Enforcement Hotline pursuant to 18 CFR 1b.21.

ROUTINE USES OF RECORDS MAINTAINED IN THE SYSTEM, INCLUDING CATEGORIES OF USERS AND THE PURPOSES OF SUCH USES:

In addition to those disclosures generally permitted under 5 U.S.C. 552a(b), these records or information contained therein may specifically be disclosed in each of the ways set forth as a Routine Use of Enforcement Investigation Records under FERC-58.

DISCLOSURE TO CONSUMER REPORTING AGENCIES:

None, except as authorized under 5 U.S.C. 552a(b)(12) when trying to collect a claim of the Government.

POLICIES AND PRACTICES FOR STORING, RETRIEVING, ACCESSING, RETAINING, AND DISPOSING OF RECORDS IN THE SYSTEM:

STORAGE:

Records are maintained in electronic and paper format. Electronic records are stored in computerized databases and/or on computer disc.

RETRIEVABILITY:

The records are retrieved by the names of companies, individuals, staff members, and by matter numbers under which a Hotline matter is classified.

SAFEGUARDS:

Access is restricted to agency personnel or contractors whose responsibilities require access. Paper records are maintained in areas not accessible to the public. Access to electronic records is controlled by “user ID” and password combinations and/or other electronic access or network controls. The building is guarded and monitored by security personnel, cameras, ID checks, and other physical security measures.

RETENTION AND DISPOSAL:

These records will be maintained until they become inactive, at which time they will be retired or destroyed in accordance with records schedules of the Federal Energy Regulatory Commission and as approved by the National Archives and Records Administration.

SYSTEM MANAGER(S) AND ADDRESS:

Office of Enforcement, Federal Energy Regulatory Commission, 888 First Street NE., Washington, DC 20426.

NOTIFICATION PROCEDURE:

Requests from individuals to determine if a system of records contains information about them should be directed to the System Manager.

RECORD ACCESS PROCEDURES:

Same as notification procedure above.

CONTESTING RECORD PROCEDURES:

Same as notification procedure above.

RECORD SOURCE CATEGORIES:

Information in these records is supplied by individuals, private and public corporations or other entities, other governmental or self-regulatory organizations; public sources; other offices within the Commission; documents, litigation, transcripts of testimony, evidence introduced into court, orders entered by a court, and correspondence relating to litigations; pleadings in administrative proceedings, transcripts of testimony, documents, including evidence entered in such proceedings; and miscellaneous other sources.

EXEMPTIONS CLAIMED FOR THE SYSTEM:

Under 5 U.S.C. 552a(k)(2) and 18 CFR 3b.250, this system of records is exempted from the following provisions of the Privacy Act, 5 U.S.C. 552a(c)(3), (d), (e)(1), (e)(4)(G), (H), and (I), and (f), insofar as it contains investigatory materials compiled for law enforcement purposes.

FERC-61 (replaces FERC-44 and FERC-45)

SYSTEM NAME:

Requests for Commission Publications and Information.

SECURITY CLASSIFICATION:

Unclassified.

SYSTEM LOCATION:

Office of the Chief Information Officer, Information Services Group, Information Services Team, Federal Energy Regulatory Commission, 888 First Street NE., Room 2-A, Washington, DC 20426.

CATEGORIES OF INDIVIDUALS COVERED BY THE SYSTEM:

FERC staff, members of the general public, federal, state and local governments, regulated entities, and public and private interest groups.

CATEGORIES OF RECORDS IN THE SYSTEM:

Name, address, phone number and/or email address of requester and/or company, description of information being requested, receipt of request and completion dates, and method of payment for documents and publications when costs are incurred.

AUTHORITY FOR MAINTENANCE OF THE SYSTEM:

18 CFR 388.106.

PURPOSE(S):

To allow Customer Service Technical Information Specialists within the Public Reference Room a single point of reference for tracking information requests; to provide statistics to management on services provided to the public and to staff; to monitor average turn-around times for requests; and to identify information request trends for customer service profiles.

ROUTINE USES OF RECORDS MAINTAINED IN THE SYSTEM, INCLUDING CATEGORIES OF USERS AND THE PURPOSES OF SUCH USES:

In addition to those disclosures generally permitted under 5 U.S.C. 552a(b), these records or information contained therein may specifically be disclosed as a routine use to monitor status of requests, identify technical assistance provided, develop request statistics, and identify trends in types of information being requested by members of the public.

DISCLOSURE TO CONSUMER REPORTING AGENCIES:

None.

POLICIES AND PRACTICES FOR STORING, RETRIEVING, ACCESSING, RETAINING, AND DISPOSING OF RECORDS IN THE SYSTEM:

STORAGE:

Paper and computer files.

RETRIEVABILITY:

By date, name of requester or company represented.

SAFEGUARDS:

Hard copies are maintained in a centralized area to which the general public is not authorized access. The public's access to the records are monitored by Technical Information Specialists at a front desk. Access and system rights to the computer are assigned by the system administrator to Technical Information Specialists requiring access. Technical Information Specialists access the system through their personal computers. All Technical Information Specialists with assigned rights to access the system must enter a user identification and a valid password to access their computers and all employees use screen saver passwords. In addition, the computers are situated in an area to which the general public is not allowed access.

RETENTION AND DISPOSAL:

Paper records are maintained for three months then disposed of in burn bags. Computer data is purged annually.

SYSTEM MANAGER(S) AND ADDRESS:

Leader, Information Services Team, Information Services Group, Office of the Chief Information Officer, Federal Energy Regulatory Commission, 888 First Street, Room 2-A, Washington, DC 20426.

NOTIFICATION PROCEDURE:

All inquiries and requests relating to this system of records should be addressed to the system manager of the system.

RECORD ACCESS PROCEDURES:

Same as notification procedures above.

CONTESTING RECORD PROCEDURES:

Same as notification procedures above.

RECORD SOURCE CATEGORIES:

Members of the general public.

EXEMPTIONS CLAIMED FOR THE SYSTEM:

None.

FERC-62

SYSTEM NAME:

Public Information Requests.

SECURITY CLASSIFICATION:

Unclassified.

SYSTEM LOCATION:

Office of External Affairs, Federal Energy Regulatory Commission, 888 First Street NE., Washington, DC 20426.

CATEGORIES OF INDIVIDUALS COVERED BY THE SYSTEM:

FERC staff, members of the general public, federal, state and local governments, regulated entities, and public and private interest groups.

CATEGORIES OF RECORDS IN THE SYSTEM:

Name, address, affiliation, phone number and/or email address of requester and/or company, description of information being requested, resolution of the request.

AUTHORITY FOR MAINTENANCE OF THE SYSTEM:

18 CFR 388.104 and 18 CFR 388.106.

PURPOSE(S):

To allow Public Relations Specialists within the Office of External Affairs a single point of reference for tracking information requests; to provide statistics to management on services provided to the public, to monitor the response time for requests from the general public and to ensure that the responses to the general public are consistent and match the needs of the individual requesters.

ROUTINE USES OF RECORDS MAINTAINED IN THE SYSTEM, INCLUDING CATEGORIES OF USERS AND THE PURPOSES OF SUCH USES:

In addition to those disclosures generally permitted under 5 U.S.C. 552a(b), these records or information contained therein may specifically be disclosed as a routine use to (1) monitor status of requests; (2) identify trends in types of information being requested by members of the public, (3) determine whether the responses to individual requesters were sufficient and (4) to monitor trends in the volume of inquiries submitted to the Office of External Affairs based on different categories.

DISCLOSURE TO CONSUMER REPORTING AGENCIES:

None.

POLICIES AND PRACTICES FOR STORING, RETRIEVING, ACCESSING, RETAINING, AND DISPOSING OF RECORDS IN THE SYSTEM:

STORAGE:

Computer files maintained in a database available only to employees within the Office of External Affairs.

RETRIEVABILITY:

By date, name of requester or affiliation.

SAFEGUARDS:

Access and system rights to the computer are assigned by the system administrator to Public Information Specialists requiring access. Public Information Specialists access the system through their personal computers. All Public Information Specialists with assigned rights to access the system must enter a user identification and a valid password to access their computers and all employees use screen saver passwords. In addition, the computers are situated in an area to which the general public is not allowed access.

RETENTION AND DISPOSAL:

These records will be maintained until they become inactive, at which time they will be retired or destroyed in accordance with records schedules of the Federal Energy Regulatory Commission and as approved by the National Archives and Records Administration.

SYSTEM MANAGER(S) AND ADDRESS:

Director of Public Inquiry Program, Office of External Affairs, Federal Energy Regulatory Commission, 888 First Street, Washington, DC 20426.

NOTIFICATION PROCEDURE:

All inquiries and requests relating to this system of records should be addressed to the system manager of the system.

RECORD ACCESS PROCEDURES:

Same as notification procedures above.

CONTESTING RECORD PROCEDURES:

Same as notification procedures above.

RECORD SOURCE CATEGORIES:

Members of the general public.

EXEMPTIONS CLAIMED FOR THE SYSTEM:

None.

FERC-63

SYSTEM NAME:

Company Registration Records

SECURITY CLASSIFICATION:

Unclassified

SYSTEM LOCATION:

Office of the Chief Information Officer, Information Services Group, Information Services Team, Federal Energy Regulatory Commission, 888 First Street NE., Room 2-A, Washington, DC 20426.

CATEGORIES OF INDIVIDUALS COVERED BY THE SYSTEM:

Regulated entities and public and private interest groups and Companies that make filings on behalf of required filers.

CATEGORIES OF RECORDS IN THE SYSTEM:

Name, address, phone number and/or email address of the regulated entities and public and private interest groups and entities requesting Delegated Identifier status.

AUTHORITY FOR MAINTENANCE OF THE SYSTEM:

18 CFR 385.2003.

PURPOSE(S):

To track participation and use in matters before the Commission electronically and to assist customers with issues with the system.

ROUTINE USES OF RECORDS MAINTAINED IN THE SYSTEM, INCLUDING CATEGORIES OF USERS AND THE PURPOSES OF SUCH USES:

In addition to those disclosures generally permitted under 5 U.S.C. 552a(b), these records or information contained therein may specifically be disclosed as a routine use to (1) monitor registration trends; (2) to determine participation in specific proceedings; (3) to develop lists of regulated entities by industry; (4) permit required filers to designate companies as permissible filers on their behalf; (5) and to assist companies in making filings before FERC.

DISCLOSURE TO CONSUMER REPORTING AGENCIES:

None.

POLICIES AND PRACTICES FOR STORING, RETRIEVING, ACCESSING, RETAINING, AND DISPOSING OF RECORDS IN THE SYSTEM:

STORAGE:

Computer files.

RETRIEVABILITY:

By docket number, company represented or FERC-created identification number.

SAFEGUARDS:

Access and system rights to the computer are assigned by the system administrator to FERC Support Contractors and Staff requiring access. Users access the system through their personal computers. All Users with assigned rights to access the system must enter a user identification and a valid password to access their computers and all employees use screen saver passwords. In addition, the computers are situated in an area to which the general public is not allowed access.

RETENTION AND DISPOSAL:

Computer data is maintained as long as needed.

SYSTEM MANAGER(S) AND ADDRESS:

Leader, Information Services Team, Information Services Group, Office of the Chief Information Officer, Federal Energy Regulatory Commission, 888 First Street, Room 2-A, Washington, DC 20426.

NOTIFICATION PROCEDURE:

All inquiries and requests relating to this system of records should be addressed to the system manager of the system.

RECORD ACCESS PROCEDURES:

Same as notification procedures above.

CONTESTING RECORD PROCEDURES:

Same as notification procedures above.

RECORD SOURCE CATEGORIES:

Members of the general public.

EXEMPTIONS CLAIMED FOR THE SYSTEM:

None.

FERC-64

SYSTEM NAME:

Individual Registration Records.

SECURITY CLASSIFICATION:

Unclassified.

SYSTEM LOCATION:

Office of the Chief Information Officer, Information Services Group, Information Services Team, Federal Energy Regulatory Commission, 888 First Street NE., Room 2-A, Washington, DC 20426.

CATEGORIES OF INDIVIDUALS COVERED BY THE SYSTEM:

Members of the general public, federal, state and local governments, public and private interest groups, and FERC staff.

CATEGORIES OF RECORDS IN THE SYSTEM:

Name, address, phone number and/or email address of members of the general public, federal, state and local governments, and public and private interest groups who sign up to participate in the various FERC Online programs.

AUTHORITY FOR MAINTENANCE OF THE SYSTEM:

18 CFR 385.2003.

PURPOSE(S):

To track participation and use in matters before the Commission electronically and to assist customers with issues with the system.

ROUTINE USES OF RECORDS MAINTAINED IN THE SYSTEM, INCLUDING CATEGORIES OF USERS AND THE PURPOSES OF SUCH USES:

In addition to those disclosures generally permitted under 5 U.S.C. 552a(b), these records or information contained therein may specifically be disclosed as a routine use to (1) monitor registration trends for FERC Online Record systems; (2) to determine participation in specific proceedings; (3) to assist individual parties in determining who is on a particular service list; and (4) for selection as a delegated agent to file before the Commission on behalf of a specific Regulated Entity.

DISCLOSURE TO CONSUMER REPORTING AGENCIES:

None.

POLICIES AND PRACTICES FOR STORING, RETRIEVING, ACCESSING, RETAINING, AND DISPOSING OF RECORDS IN THE SYSTEM:

STORAGE:

Computer files.

RETRIEVABILITY:

By docket number, name of requester, company represented or FERC-created identification number.

SAFEGUARDS:

Access and system rights to the computer are assigned by the system administrator to FERC Support Contractors and Staff requiring access. Users access the system through their personal computers. All Users with assigned rights to access the system must enter a user identification and a valid password to access their computers and all employees use screen saver passwords. In addition, the computers are situated in an area to which the general public is not allowed access.

RETENTION AND DISPOSAL:

Computer data is maintained as long as needed.

SYSTEM MANAGER(S) AND ADDRESS:

Leader, Information Services Team, Information Services Group, Office of the Chief Information Officer, Federal Energy Regulatory Commission, 888 First Street, Room 2-A, Washington, DC 20426.

NOTIFICATION PROCEDURE:

All inquiries and requests relating to this system of records should be addressed to the system manager of the system.

RECORD ACCESS PROCEDURES:

Same as notification procedures above.

CONTESTING RECORD PROCEDURES:

Same as notification procedures above.

RECORD SOURCE CATEGORIES:

Members of the general public.

EXEMPTIONS CLAIMED FOR THE SYSTEM:

None.

Dated: March 25, 2014.
Kimberly D. Bose,
Secretary.

[FR Doc. 2014-06993 Filed 3-27-14; 8:45 am]

BILLING CODE 6717-01-P